DEPARTMENT OF HEALTH AND HUMAN SERVICES

National Institutes of Health

National Heart, Lung, and Blood Institute; Proposed Collection; Comment Request The Framingham Study

SUMMARY: Under the provisions of Section 3507(a)(1)(D) of the Paperwork Reduction Act of 1995, the National Heart, Lung, and Blood Institute (NHLBI), the National Institutes of Health (NIH) has submitted to the Office of Management and Budget (OMB) a request for review and approval the information collection listed below. This proposed information collection was previously published in the Federal Register on May 2, 2001, pages 21988-21989, and allowed 60-days for public comment. No public comments were received. The purpose of this notice is to allow an addtional 30 days for public comment. The National Institutes of Health may not conduct or sponsor, and the respondent is not required to respond to an information collection that has been extended, revised, or implemented on or after October 1, 1995, unless it displays a currently valid OMB control number.

Proposed Collection

Title: The Framingham Study. Type of Information Collection Request: Revision of a currently approved collection (OMB NO. 0925-0216). Need and Use of Information Collection: The Framingham Study will conduct examinations and morbidity and mortality follow-up in original, offspring, and third generation participants for the purpose of studying the determinants of cardiovascular disease. Frequency of Response: The participants will be contacted annually. Affected Public: Individuals or households; Businesses or other for profit; Small Businesses or organizations.

Type of Respondents: Adult men and women; doctors and staff of hospitals and nursing homes. The annual reporting burden is as follows: Estimated Number of Respondents: 2,833; Estimated Number of Responses Per Respondent: 3.78; Average Burden Hours Per Response: 0.806; and Estimated Total Annual Burden Hours Requested: 8,639. The annualized cost to respondents is estimated at $44,080, assuming respondents time at the rate of $10 per hour for participant and $55 per hour for physicians and other professional health care respondents. There are no Capital Costs to report. There are no Operating or Maintenance Costs to report.

Type of Respondents | Estimated number of respondents | Estimated number of responses per respondent | Average burden hours per response | Estimated total annual burden hours requested
Participant Examination | 2,133 | 4.69 | 0.836 | 8,376.5
Physician, hospital, nursing home staff ¹ | 350 | 1.0 | 0.6700 | 234.5
Participant's next-of-kin ¹ | 350 | 1.0 | 0.0800 | 28
Total | 2,833 | 3.78 | 0.806 | 8,639
¹ Annual burden is placed on doctors, hospitals, nursing homes, and respondent relatives/informants through requests for information which will help in the compilation of the number and nature of new fatal and nonfatal events.

Request for Comments

Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments To OMB

Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact Dr. Paul Sorlie, Project Officer, National Institutes of Health, Division of Epidemiology and Clinical Applications, National Heart, Lung and Blood Institute, 6701 Rockledge Drive, MSC 7934, Bethesda, MD 20892, or call non-toll-free number (301) 435-0707 or E-mail your request, including your address to: Sorlie@nih.gov.

Comments Due Date

Comments regarding this information collection are best assured of having their full effect if received on or before July 12, 2001.

Dated: June 4, 2001.
Peter Savage,
Acting Director, Division of Epidemiology and Clinical Applications.

[FR Doc. 01-14786 Filed 6-11-01; 8:45 am]

BILLING CODE 4140-01-M